DEPARTMENT OF JUSTICE

Notice of Lodging of Proposed Consent Decree Under the Comprehensive Environmental Response, Compensation, and Liability Act

On February 5, 2024, the Department of Justice lodged a proposed consent decree with the United States District Court for the Southern District of Indiana in the lawsuit entitled United States and State of Indiana v. 1500 South Tibbs LLC, Civil Action No. 1:24-cv-235.

The proposed Consent Decree settles claims brought by the United States and the State of Indiana under sections 106 and 107 of the Comprehensive Environmental Response, Compensation, and Liability Act (“CERCLA”), 42 U.S.C. 9606 and 9607 against 1500 South Tibbs LLC (“Defendant”) seeking reimbursement of response costs and performance of remedial measures with respect to Reilly Tar and Chemical Superfund Site in Indianapolis, Indiana. The Consent Decree requires Defendant to pay the United States a total of $112,805.24 for EPA's response costs, pay the State a total of $21,061.53 for its past response costs, pay future response costs incurred by the United States and the State, and perform the remedial “Work” defined in the Scope of Work, attached to the Consent Decree as Attachment A. The Work consists of designing and implementing a revised Operable Unit 1 (OU1) remedy for the treatment of groundwater underneath the Site and to continue operating and maintaining the remedies for contamination at the other Operable Units.

The publication of this notice opens a period for public comment on the proposed consent decree. Comments should be addressed to the Assistant Attorney General, Environment and Natural Resources Division, and should refer to United States and State of Indiana v. 1500 South Tibbs LLC, D.J. Ref. No. 90-11-3-1028/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. If you require assistance accessing the consent decree, you may request assistance by email or by mail to the addresses provided above for submitting comments.

Patricia A. McKenna,
Deputy Section Chief, Environmental Enforcement Section, Environment and Natural Resources Division.

[FR Doc. 2024-02786 Filed 2-9-24; 8:45 am]

BILLING CODE 4410-15-P